ENVIRONMENTAL PROTECTION AGENCY

40 CFR Parts 257, 261, 264, 265, 268, 271 and 302

[EPA-HQ-RCRA-2009-0640; FRL-9175-4]

RIN 2050-AE81

Hazardous and Solid Waste Management System; Identification and Listing of Special Wastes; Disposal of Coal Combustion Residuals From Electric Utilities

AGENCY: Environmental Protection Agency (EPA).

ACTION: Announcement of public hearings.

SUMMARY: On June 21, 2010, EPA proposed to regulate the disposal of coal combustion residuals generated from the combustion of coal at electric utilities and by independent power producers. Given the significant public interest in this proposed rule and to further public participation opportunities, EPA is announcing five public hearings to be held in cities across the United States. The hearings will provide the public with an opportunity to present data, views or arguments concerning the proposed rule. The public hearings will take place in Arlington, Virginia; Denver, Colorado; Dallas, Texas; Charlotte, North Carolina; and Chicago, Illinois.

DATES: A public hearing will be conducted in Arlington, Virginia, on August 30, 2010; Denver, Colorado, on September 2, 2010; Dallas, Texas, on September 8, 2010; Charlotte, North Carolina, on September 14, 2010; and Chicago, Illinois, on September 16, 2010. Persons who wish to present oral testimony at one or more of the public hearings must preregister at least three business days prior to the hearing. The last day to preregister will be August 25, 2010, for the Arlington, Virginia, public hearing; August 30, 2010, for the Denver, Colorado, public hearing; September 2, 2010, for the Dallas, Texas, public hearing; September 9, 2010, for the Charlotte, North Carolina, public hearing; and September 13, 2010, for the Chicago, Illinois, public hearing. The preregistration cut-off time is 5 p.m. Eastern Daylight Time (EDT) on the final day of preregistration for the five public hearings. See SUPPLEMENTARY INFORMATION for information on how to register.

ADDRESSES: The public hearings will be held at the following locations:

Arlington, VA—August 30, 2010, Hyatt Regency, 2799 Jefferson Davis Highway, Arlington, VA 22202, Phone: (703) 418-1234, http://www.crystalcity.hyatt.com.

Denver, CO—September 2, 2010, Grand Hyatt, 1750 Welton Street, Denver, CO 80202, Phone: (303) 295-1234, http://www.granddenver.hyatt.com.

Dallas, TX—September 8, 2010, Hyatt Regency Dallas, 300 Reunion Boulevard, Dallas, TX 75207, Phone: (214) 651-1234, http://www.dallasregency.hyatt.com.

Charlotte, NC—September 14, 2010, Holiday Inn Charlotte (Airport), 2707 Little Rock Road, Charlotte, NC 28214, Phone: (704) 394-4301, http://www.hicharlotteairport.com.

Chicago, IL—September 16, 2010, Hilton Chicago, 720 South Michigan Avenue, Chicago, IL 60605, Phone: (312) 922-4400, http://www.chicagohilton.com/hotels__hiltonchicago.aspx.

For additional details on the public hearings please see SUPPLEMENTARY INFORMATION.

FOR FURTHER INFORMATION CONTACT: If you have questions concerning the public hearing, please contact Bonnie Robinson, Office of Resource Conservation and Recovery, U.S. Environmental Protection Agency, 1200 Pennsylvania Ave., NW., Mailcode 5304P, Washington, DC 20460; telephone number (703) 308-8429; e-mail address: robinson.bonnie@epa.gov or Elaine Eby, Office of Resource Conservation and Recovery, U.S. Environmental Protection Agency, 1200 Pennsylvania Ave., NW., Mailcode 5304P, Washington, DC 20460; telephone number (703) 308-8449; e-mail address eby.elaine@epa.gov. Questions concerning the proposed rule should be addressed to. Alexander Livnat, Office of Resource Conservation and Recovery, U.S. Environmental Protection Agency, 5304P; 1200 Pennsylvania Ave., NW., Washington DC 20460, telephone number: (703) 308-7251, e-mail address: livnat.alexander@epa.gov, or Steve Souders, Office of Resource Conservation and Recovery, U.S. Environmental Protection Agency, 5304P; 1200 Pennsylvania Ave., NW., Washington DC 20460, telephone number: (703) 308-8431, e-mail address: souders.steve@epa.gov.

SUPPLEMENTARY INFORMATION: The proposed rule was published in the Federal Register on June 21, 2010 (75 FR 35128). Additional information on the proposed rule can be found at http://www.epa.gov/coalashrule. (Note: The Agency will shortly be publishing in the Federal Register several administrative corrections that are needed to the June 21, 2010 print publication of the proposed rule. An unofficial pre-publication version of the corrected proposed rule and a summary of the administrative corrections made to the rule is available at http://www.epa.gov/coalashrule in the meantime.)

On June 21, 2010, EPA proposed to establish regulatory requirements applicable to the disposal of coal combustion residuals, commonly known as coal ash, generated from the combustion of coal at electric utilities and by independent power producers. These regulations were proposed under the authority of sections 1008(a), 2002(a), 3001, 3004, 3005, and 4004 of the Solid Waste Disposal Act of 1970, as amended by the Resource Conservation and Recovery Act of 1976 (RCRA), as amended by the Hazardous and Solid Waste Amendments of 1984 (HSWA), 42 U.S.C. 6907(a), 6912(a), 6921,6924, 6925 and 6944. These statutes, combined, are commonly referred to as “RCRA.” Several of these statutory provisions require that EPA offer the public an “opportunity for a hearing” as part of the process for adopting a final requirement. See, e.g., 42 U.S.C. 6907(a), 6921(b)(1)(C)(3)(C).

To date, EPA has received a submission requesting multiple hearings on the proposed rule, and given the significant public interest in this rule, EPA is announcing five public hearings to be held in cities across the United States. The public hearings will provide interested parties the opportunity to present data, views, or arguments concerning the proposed rule. EPA may ask clarifying questions during the oral presentations, but will not respond formally to any comments or the presentations made.

Each public hearing will consist of three sessions, a morning session starting at 10 a.m. (local time) and ending at noon, an afternoon session starting at 1 p.m., and ending at 5 p.m., and an evening session beginning at 6:30 and ending at 9 p.m. or later, if necessary, depending on the number of speakers that preregister for the hearing.

If you would like to present oral testimony at the hearing, please preregister at the following Web site: http://www.epa.gov/epawaste/nonhaz/industrial/special/fossil/ccr-rule/ccr-form.htm. If you would like to present oral testimony and are unable to preregister at this Web site, please contact either Bonnie Robinson or Elaine Eby at the addresses given above under FOR FURTHER INFORMATION CONTACT prior to the close of the preregistration period. Note that you only need to preregister if you wish to present oral testimony. That is, you do not have to preregister in order to observe the public hearing or to submit only a written statement (see below). The Agency encourages, however, all persons planning to attend one or more of the public hearings to preregister for it, which will facilitate the planning of the event. As noted above, preregistration closes at 5 p.m. EDT three business days prior to each public hearing. If you do not preregister by the deadline and wish to provide oral testimony, EPA may allow, if time permits, some or all unregistered persons to present oral testimony at the public hearing. EPA will consider such requests on a first-come, first-served basis on the day of the public hearing, according to the time available.

If you wish to submit only a written statement at the public hearing (that is, you do not want to present oral testimony), EPA officials will accept such written statements at the morning, afternoon, and evening sessions. EPA will place such statements in the docket to the rulemaking and will consider your statement as part of the rulemaking record. You do not need to preregister for the hearing if you wish only to submit a written statement; however, as previously stated, preregistration is encouraged.

Oral testimony will be limited to 3 minutes for each person to address the proposed rule. We will not be providing equipment for persons to show overhead slides or make computerized slide presentations. EPA encourages each person to provide two copies of their oral testimony either electronically or computer disk, CD-ROM, or paper copy at the public hearing. Verbatim transcripts of the public hearings and written statements will be included in the docket to this rulemaking.

Any person needing special accommodations at the public hearings, including wheelchair access or sign language translation, should contact Bonnie Robinson or Elaine Eby at the addresses given above under FOR FURTHER INFORMATION CONTACT at least five business days in advance of the public hearing.

Finally, in addition to today's public hearing announcement, EPA will be maintaining a Web site providing the most up-to-date information on these public hearings. See http://www.epa.gov/epawaste/nonhaz/industrial/special/fossil/ccr-rule/ccr-hearing.htm. Those persons planning to participate in the public hearing process, either by providing oral testimony or observing the hearing, are urged to visit this Web site at least two days prior to the date of the each public hearing to determine if there are any relevant announcements or changes related to the hearing.

Dated: July 8, 2010.
Suzanne Rudzinski,
Acting Director, Office of Resource Conservation and Recovery.

[FR Doc. 2010-17143 Filed 7-14-10; 8:45 am]

BILLING CODE 6560-50-P